DEPARTMENT OF THE INTERIOR

Bureau of Ocean Energy Management

Use of Outer Continental Shelf Sand Resources in the Martin County Hurricane and Storm Damage Reduction Project, Hutchinson Island, Martin County, Florida

MMAA104000

AGENCY: Bureau of Ocean Energy Management, Interior.

ACTION: Notice of availability of the Record of Decision.

SUMMARY: The Bureau of Ocean Energy Management (BOEM) is announcing the availability of the Record of Decision (ROD) that documents BOEM's decision to authorize the use of Outer Continental Shelf (OCS) sand resources by the U.S. Army Corps of Engineers (USACE) Jacksonville District in the Martin County Hurricane and Storm Damage Reduction (HSDR) Project, Hutchinson Island, Martin County, Florida. BOEM will enter into a negotiated agreement with the USACE and Martin County and make available OCS sand for use in the Martin County HSDR project.

ADDRESSES: The ROD is available at BOEM's Web site at https://www.boem.gov/Florida-Projects/.

FOR FURTHER INFORMATION CONTACT: Jill Lewandowski, Bureau of Ocean Energy Management, Chief, Division of Environmental Assessment, Office of Environmental Programs, 45600 Woodland Road, VAM OEP, Sterling, VA 20166, (703) 787-1703; jill.lewandowski@boem.gov.

SUPPLEMENTARY INFORMATION: The environmental impacts of dredging and the placement of OCS sand along the Martin County shoreline have been evaluated in several National Environmental Policy Act (NEPA) documents. The most recent Supplemental Environmental Impact Statement (SEIS) was prepared in 2011 by the USACE with BOEM as a cooperating agency. The SEIS tiered directly from the USACE 1986 Feasibility Report and Final EIS and 1994 General Design Memorandum and Environmental Assessment. These previous NEPA documents evaluated a suite of structural and non-structural alternatives to address HSDR needs in Martin County, Florida. In its February 2012 ROD, the Corps selected its preferred alternative to construct the Martin County HSDR Project, including use of OCS sand from the C1-B borrow area for the remaining life of the Federal project through 2046. A ROD was signed by BOEM in March 2012 for use of 1,000,000 cubic yards (CY) of OCS sand resources from C1-B to support nourishment of the Martin County project in 2012. In accordance with 40 CFR 1502.9 and 43 CFR 46.120, BOEM has reviewed all existing NEPA documents and independently determined that existing environmental analyses adequately assess impacts of the proposed action. There are no changes to the proposed action, no new circumstances, and no new information that would result in significantly different environmental effects and warrant supplementation of the existing SEIS. The 2011 SEIS adequately assessed the physical, biological, and social/human impacts of the proposed project and considered a range of alternatives, including a no-action alternative.

The USACE Jacksonville District and Martin County Board of Commissioners (non-federal sponsor) have since requested that BOEM authorize the use of up to 1,000,000 CY of additional OCS sand resources from C1-B to support nourishment of the Martin County HSDR project. The project proponents propose to nourish a 4-mile stretch of Hutchinson Island, Florida, creating a sea-turtle friendly beach template using sand from shoal C1-B. BOEM and the USACE will enter into a negotiated agreement authorizing the use of up to 1,000,000 CY of OCS sand from the C1-B borrow area. This decision is for the authorization of the proposed use of OCS sand for the Martin County HSDR Project in 2017 and may also apply to future use of OCS sand resources if BOEM determines the existing NEPA analysis is still adequate and supplementation is not warranted. Under the OCS Lands Act (43 U.S.C. 1337(k)(2)), BOEM can convey, on a noncompetitive basis, the rights to use OCS sand, gravel, or shell resources for use in a program for shore protection, beach restoration, or coastal wetland restoration undertaken by a Federal, state, or local government agency (43 U.S.C. 1337(k)(2)).

The ROD discloses BOEM's decision, articulates the basis for the decision, summarizes the alternatives considered by BOEM, and identifies the environmentally preferable alternative and the mitigation measures BOEM is adopting. The USACE is committed to implementing the mitigation measures and monitoring requirements deemed practicable to avoid or minimize environmental harm. The mitigation measures and monitoring requirements are identified in BOEM's ROD and will be incorporated into the negotiated agreement between BOEM, the USACE, and Martin County.

Authority: This Notice of Availability is published pursuant to the regulations (40 CFR 1506.6) implementing the provisions of the NEPA of 1969 (42 U.S.C. 4321 et seq.).

Dated: July 11, 2017.
Walter D. Cruickshank,
Acting Director, Bureau of Ocean Energy Management.

[FR Doc. 2017-14867 Filed 7-13-17; 8:45 am]

BILLING CODE 4310-MR-P